DEPARTMENT OF COMMERCE

Foreign-Trade Zones Board

Docket 40-2008

Foreign-Trade Zone 50 - Long Beach, CA, Request for Manufacturing Authority, Phoenix MC, Inc. d/b/a Phoenix Motorcars, Inc. (Motor Vehicles)

An application has been submitted to the Foreign-Trade Zones Board (the Board) by the Board of Harbor Commissioners of the Port of Long Beach, grantee of FTZ 50, pursuant to Section 400.32(b)(1) of the Board's regulations (15 CFR Part 400), requesting authority on behalf of Phoenix MC, Inc. d/b/a Phoenix Motorcars, Inc. (PMI), to assemble light-duty passenger vehicles under FTZ procedures within FTZ 50. It was formally filed on June 13, 2008.

The PMI facility (24,500 sq.ft./15 employees) is located at 401 S. Doubleday Avenue (Site 1) in Ontario, California. The facility, currently under construction, will be used to produce electric-powered, light-duty passenger vehicles (sport utility trucks, sport utility vehicles; HTSUS 8703.90; duty rate: 2.5%) for export and the domestic market. At full capacity, the facility (about 50 employees) will assemble up to approximately 30,000 vehicles annually. Under FTZ procedures, PMI would admit foreign semi-finished vehicle bodies (HTSUS 8707.10, duty rate: 2.5%) to FTZ 50 to be equipped with domestic electric drive train systems and batteries.

FTZ procedures would exempt PMI from customs duty payments on the foreign vehicle bodies used in export production. On its domestic sales, PMI would be able to defer payment of customs duties on the foreign vehicle bodies until the finished motor vehicles are entered for consumption from the zone. Customs duties also could possibly be deferred or reduced on foreign status production equipment. The application indicates that the savings from FTZ procedures would help improve the facility's international competitiveness.

In accordance with the Board's regulations, Pierre Duy of the FTZ Staff is designated examiner to investigate the application and report to the Board.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is August 18, 2008. Rebuttal comments in response to material submitted during the foregoing period may be submitted during the subsequent 15-day period to September 2, 2008.

A copy of the application will be available for public inspection at the Office of the Foreign-Trade Zones Board's Executive Secretary at the address listed above. For further information, contact Pierre Duy, examiner, at: pierre_duy@ita.doc.gov, or (202) 482-1378.

Dated: June 13, 2008.
Andrew McGilvray,
Executive Secretary,

[FR Doc. E8-13883 Filed 6-18-08; 8:45 am]

BILLING CODE 3510-DS-S